INTERNATIONAL TRADE COMMISSION

[Investigation No. 337-TA-1270]

Institution of Investigation; Certain Casual Footwear and Packaging Thereof

AGENCY: U.S. International Trade Commission.

ACTION: Notice.

SUMMARY: Notice is hereby given that a complaint was filed with the U.S. International Trade Commission on June 8, 2010, under section 337 of the Tariff Act of 1930, as amended, on behalf of Crocs, Inc. of Broomfield, Colorado. Supplements to the complaint were filed on June 10, June 17, June 23, and June 28, 2021. The complaint, as corrected and supplemented, alleges violations of section 337 based upon the importation into the United States, the sale for importation, and the sale within the United States after importation of certain casual footwear and packaging thereof by reason of infringement of one or more of U.S. Trademark Registration No. 3,836,415 (“the '415 mark”); U.S. Trademark Registration No. 5,149,328 (“the '328 mark”); and U.S. Trademark Registration No. 5,273,875 (“the '875 mark”) (collectively, “Asserted Trademarks”), and that an industry in the United States exists as required by the applicable Federal Statute. The complaint, as corrected and supplemented, further alleges violations of section 337 based upon the importation into the United States, or in the sale of certain casual footwear and packaging thereof, by reason of false designation of source or trademark dilution, the threat or effect of which is to destroy or substantially injure an industry in the United States. The complainant requests that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on July 6, 2021, ordered that —

(1) Pursuant to subsection (b) of section 337 of the Tariff Act of 1930, as amended, an investigation be instituted to determine:

(a) Whether there is a violation of subsection (a)(1)(C) of section 337 in the importation into the United States, the sale for importation, or the sale within the United States after importation of certain products identified in paragraph (2) by reason of infringement of one or more of the Asserted Trademarks, and whether an industry in the United States exists as required by subsection (a)(2) of section 337;

(b) whether there is a violation of subsection (a)(1)(A) of section 337 in the importation into the United States, or in the sale of certain products identified in paragraph (2), by reason of false designation of source or trademark dilution, the threat or effect of which is to destroy or substantially injure an industry in the United States;

(2) Pursuant to section 210.10(b)(1) of the Commission's Rules of Practice and Procedure, 19 CFR 210.10(b)(1), the plain language description of the accused products or category of accused products, which defines the scope of the investigation, is “casual footwear with holes in the upper and such footwear's packaging”;

(3) For the purpose of the investigation so instituted, the following are hereby named as parties upon which this notice of investigation shall be served:

(a) The complainant is: Crocs, Inc., 13601 Via Varra, Broomfield, Colorado 80020.

(b) The respondents are the following entities alleged to be in violation of section 337, and are the parties upon which the complaint is to be served:

Cape Robbin Inc., 1943 West Mission Blvd., Bldg. F, Pomona, CA 91766

Bijora, Inc., d/b/a Akira, 200 N Fairfield Ave., Chicago, IL 60612

Dr. Leonard's Healthcare Corp. d/b/a Carol Wright, 100 Nixon Ln., Edison, NJ 08837

Crocsky, 1401 Lavaca St., Austin, TX 78701

Fullbeauty Brands Inc. d/b/a Kingsize, 1 New York Plaza, New York, NY 10004

Hawkins Footwear, Sports, Military & Dixie Store, 6083 New Jesup Hwy., Suite J, Brunswick, GA 31523

Hobibear Shoes and Clothing Ltd., 173 N 17th Ct., Brighton, CO 80601

Hobby Lobby Stores, Inc., 707 SW 44th St., Oklahoma City, OK 73179

Ink Tee, 811 Wilshire Blvd., Los Angeles, CA 90017

La Modish Boutique, 1773 W San Bernardino Rd., Suite B25, West Covina, CA 91790

Legend Footwear, Inc., d/b/a Wild Diva, 19445 E Walnut Drive North, City of Industry, CA 91789

Loeffler Randall Inc., 588 Broadway, Ste. 1203, New York, NY 10012

Maxhouse Rise Ltd., Flat A, 25/F, United Centre, 95 Queensway, Hong Kong

PW Shoes, Inc. a/k/a P&W, 5830 Grand Ave., 3a, Maspeth, NY 11378

SG Footwear Meser Grp. Inc. a/k/a S. Goldberg & Co., 3 University Plz #400, Hackensack, NJ 07601

Shoe-Nami, Inc., 91 Westbank Expressway, Gretna, LA 70053

Skechers USA, Inc., 228 Manhattan Beach Blvd., Manhattan Beach, CA 90266

Star Bay Group Inc., 390-400 Railroad Ave., Hackensack, NJ 07601

Yoki Fashion International LLC, 1410 Broadway, Suite 1005, New York, NY 10018

Quanzhou ZhengDe Network Corp., d/b/a Amoji, Rm. C-409, No. 2 YanZhi Gallery, Licheng District, Quanzhou, Fujian Province, China 362002

718 Closeouts, 1181 Liberty Ave., Brooklyn, NY 11208

Royal Deluxe Accessories, LLC, 165 Spring St., New Providence, NJ 07974

Fujian Huayuan Well Import and Export Trade Co., Ltd., Rm. 02, Connector of Hongyuan Building 1 and 2, No. 246 Hualin Road, Huada Residential District, Gulou District, Fuzhou, Fujian Province, China 350001

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: July 6, 2021.
Lisa Barton,
Secretary to the Commission.

[FR Doc. 2021-14653 Filed 7-8-21; 8:45 am]

BILLING CODE 7020-02-P